ENVIRONMENTAL PROTECTION AGENCY

[EPA-HQ-OAR-2008-0015; FRL-9219-1]

Release of Final Document Related to the Review of the National Ambient Air Quality Standards for Carbon Monoxide

AGENCY: Environmental Protection Agency (EPA).

ACTION: Notice of Availability.

SUMMARY: The Office of Air Quality Planning and Standards (OAQPS) of EPA is announcing the availability of a final document titled Policy Assessment for the Review of the Carbon Monoxide National Ambient Air Quality Standards (PA). The PA contains staff analyses of the scientific bases for alternative policy options for consideration by the Agency prior to rulemaking.

DATES: The PA is now available.

ADDRESSES: The document will be available primarily via the Internet at the following Web site: http://www.epa.gov/ttn/naaqs/standards/co/s_co_index.html.

FOR FURTHER INFORMATION CONTACT: For questions related to this document, please contact Dr. Deirdre Murphy, Office of Air Quality Planning and Standards (Mail code C504-06), U.S. Environmental Protection Agency, Research Triangle Park, NC 27711; e-mail: murphy.deirdre@epa.gov; telephone: 919-541-0729; fax: 919-541-0237.

SUPPLEMENTARY INFORMATION: Under section 108(a) of the Clean Air Act (CAA), the Administrator identifies and lists certain pollutants which “cause or contribute to air pollution which may reasonably be anticipated to endanger public health or welfare.” The EPA then issues air quality criteria for these listed pollutants, which are commonly referred to as “criteria pollutants.” The air quality criteria are to “accurately reflect the latest scientific knowledge useful in indicating the kind and extent of all identifiable effects on public health or welfare which may be expected from the presence of [a] pollutant in the ambient air, in varying quantities.” Under section 109 of the CAA, EPA establishes primary (health-based) and secondary (welfare-based) national ambient air quality standards (NAAQS) for pollutants for which air quality criteria are issued. Section 109(d) of the CAA requires periodic review and, if appropriate, revision of existing air quality criteria. The revised air quality criteria reflect advances in scientific knowledge on the effects of the pollutant on public health or welfare. The EPA is also required to periodically review and revise the NAAQS, if appropriate, based on the revised criteria.

Presently, EPA is reviewing the NAAQS for carbon monoxide (CO).¹ The document announced today, Policy Assessment for the Review of the Carbon Monoxide National Ambient Air Quality Standards, contains staff analyses of the scientific bases for alternative policy options for consideration by the Agency prior to rulemaking. This document, which builds upon the historical “Staff Paper,” will serve to “bridge the gap” between the available scientific information and the judgments required of the Administrator in determining whether it is appropriate to retain or revise the standards.² The PA builds upon information presented in the Integrated Science Assessment for Carbon Monoxide and the Quantitative Risk and Exposure Assessment for Carbon Monoxide—Amended. An earlier draft of the PA document was released for the Clean Air Scientific Advisory Committee (CASAC) review and public comment in March 2010 (75 FR 10252), and was the subject of a CASAC review meeting on March 22-23, 2010 (74 FR 54042). In preparing the final PA, EPA has considered comments received from CASAC and the public on the earlier draft document. This final PA document is available through the Agency's Technology Transfer Network (TTN) Web site at http://www.epa.gov/ttn/naaqs/standards/co/s_co_index.html. This document may be accessed in the “Documents from Current Review” section under “Policy Assessments.”

¹ The EPA's overall plan and schedule for this review is presented in the Plan for Review of the National Ambient Air Quality Standards for Carbon Monoxide (EPA 452R-08-005; August 2008); Available at: http://www.epa.gov/ttn/naaqs/standards/co/s_co_cr_pd.html.

² See http://www.epa.gov/ttn/naaqs/review.html for a copy of Administrator Jackson's May 21, 2009, memorandum and for additional information on the NAAQS review process.

Dated: October 26, 2010.
Mary E. Henigin,
Acting Director, Office of Air Quality Planning and Standards.

[FR Doc. 2010-27633 Filed 11-1-10; 8:45 am]

BILLING CODE 6560-50-P